DEPARTMENT OF LABOR

29 CFR Part 42

Employment and Training Administration

[Docket No. ETA-2025-0003]

RIN 1205-AC27

Wage and Hour Division

RIN 1235-AA50

Occupational Safety and Health Administration

RIN 1218-AD53

Rescission of Coordinated Enforcement Regulations

AGENCY: Wage and Hour Division, Occupational Safety and Health Administration, and Employment and Training Administration, Labor.

ACTION: Proposed rule; request for comments.

SUMMARY: The Department of Labor (the Department or DOL) proposes to remove the regulations that set forth the procedures within the Department for the coordination of enforcement activities by the Wage and Hour Division (WHD), the Occupational Safety and Health Administration (OSHA), and the Employment and Training Administration (ETA) relating to migrant farmworkers. The Department is proposing this removal because these regulations limit the Department's discretion, impose unnecessary and duplicative internal procedures, and prevent the Department's agencies from coordinating with regard to migrant farmworkers in more efficient, effective ways.

DATES: Comments must be received on or before September 2, 2025.

ADDRESSES: You may send comments, identified by Docket No. ETA-2025-0003 and Regulatory Identification Number (RIN) 1205-AC27, by the following method:

• Federal eRulemaking Portal: https://www.regulations.gov. Search for the above-referenced RIN, open the proposed rule, and follow the on-screen instructions for submitting comments.

Instructions: All submissions received must include the agency name and docket number for this rulemaking or “RIN 1205-AC27.”

Please be advised that the Department will post comments received that relate to this proposed rule to https://www.regulations.gov, including any personal information provided. The https://www.regulations.gov website is the Federal e-Rulemaking Portal and all comments posted there are available and accessible to the public. Please do not submit comments containing trade secrets, confidential or proprietary commercial or financial information, personal health information, sensitive personally identifiable information (for example, social security numbers, driver's license or state identification numbers, passport numbers, or financial account numbers), or other information that you do not want to be made available to the public. Should the agency become aware of such information, the agency reserves the right to redact or refrain from posting sensitive information, libelous, or otherwise inappropriate comments, including those that contain obscene, indecent, or profane language; that contain threats or defamatory statements; or that contain hate speech. Please note that depending on how information is submitted, the agency may not be able to redact the information and instead reserves the right to refrain from posting the information or comment in such situations.

Docket: For access to the docket to read background documents or comments received, go to https://www.regulations.gov (search using RIN 1205-AC27 or Docket No. ETA-2025-0003). If you need assistance to review the comments, contact the Office of Policy Development and Research at 202-693-3700 (this is not a toll-free number).

FOR FURTHER INFORMATION CONTACT: Luke Murren, Acting Administrator, Office of Policy Development and Research, U.S. Department of Labor, 200 Constitution Avenue NW, Room N-5641, Washington, DC 20210; telephone (202) 693-3700 (this is not a toll-free number). For persons with a hearing or speech disability who need assistance using the telephone system, please dial 711 to access telecommunications relay services.

SUPPLEMENTARY INFORMATION:

I. Background

The Department proposes to remove the regulations at 29 CFR part 42 which set forth procedures within the Department for the coordination of enforcement activities by WHD, OSHA, and ETA relating to migrant farmworkers, authorized under 29 U.S.C. 49 et seq.; 29 U.S.C. 201 et seq.; 29 U.S.C. 651 et seq.; 29 U.S.C. 3101 et seq.; 5 U.S.C. 301.

The Fair Labor Standards Act (FLSA), 29 U.S.C. 201 et seq., and the Occupational Safety and Health (OSH) Act, 29 U.S.C. 651 et seq., and other applicable statutes provide employment protections, inter alia, to migrant farmworkers. These statutes are administered by the Department, which is also responsible for providing services to migrant farmworkers through ETA.

In 1980, the Department issued a final rule which established a program of coordinated farm labor law enforcement followed by OSHA, ETA, the Department's Office of the Solicitor (SOL), and the then-Employment Standards Administration (ESA) (a now-defunct agency that incorporated WHD at the time the Department promulgated Part 42).¹ See 45 FR 39486 (Jun. 10, 1980). At that time, the Department had become increasingly concerned about the employment-related problems of migrant farmworkers and sought to coordinate efforts to enforce its protective statutes on behalf of migrant farmworkers. Id. The purpose of the final rule, which was codified at 29 CFR part 42, was to “[e]nsure effective enforcement efforts under [certain] protective statutes,” specifically, the OSH Act, the FLSA, and the Farm Labor Contractor Registration Act of 1963, Public Law 88-582, 78 Stat. 920 (FLCRA) (repealed 1983) (previously codified at 7 U.S.C. 2041 et seq.), to “[e]nsure that the enforcement efforts of DOL agencies are coordinated to maximize their effectiveness, yet minimize unnecessary duplication,” to “[f]ocus the attention of DOL agencies upon the special employment-related problems faced by migrant farmworkers,” to “[c]oordinate DOL enforcement efforts with related activities of farmworker groups, federal and State agencies, and other concerned parties outside the Department of Labor,” and to “[e]stablish an information exchange which will afford the Department, farmworker groups, and other concerned parties outside the Department of Labor the opportunity to exchange information concerning wages, hours and working conditions.” 29 CFR 42.2.

¹ In 2009, ESA was dissolved, and the Administrator of the Wage and Hour Division was delegated the relevant authorities of the Assistant Secretary for Employment Standards. See Sec'y's Order 09-2009, 74 FR 58836, 2009 WL 3782835 (Nov. 13, 2009).

II. Discussion

The Department has engaged in regulatory review of 29 CFR part 42 in accordance with Executive Order (E.O.) 14192 “Unleashing Prosperity Through Deregulation” 90 FR 9065 (Jan. 31, 2025). This E.O. states that “It is the policy of the executive branch to be prudent and financially responsible in the expenditure of funds, from both public and private sources, and to alleviate unnecessary regulatory burdens placed on the American people.” Id. The Department believes that taking a deregulatory action under E.O. 14192 by rescinding 29 CFR part 42 in its entirety would be a reasonable and effective means of maintaining its responsibilities for coordinated enforcement, while improving efficiencies and removing unnecessary restrictions on the Department.

The coordinated farm labor law enforcement regulations codify requirements for the Department to maintain several processes and structures including: (1) establish a National Farm Labor Coordinated Enforcement Committee (National Committee) with membership by the Under Secretary of Labor (now the Deputy Secretary),² SOL, ETA, OSHA, and then-ESA, and supported by a staff level working group, to review the sub-agencies' policies and enforcement strategies and develop an annual coordination plan; (2) establish a Regional Farm Labor Coordinated Enforcement Committee (Regional Committee); (3) designate Farm Labor Specialists in ESA and compliance officers in OSHA to serve as farm labor contact persons, and (4) collect and review specific data pertaining to enforcement of protective statutes to be reviewed by the National Committee and to be used to inform future agency efforts. The regulations also prescribe specific frequency of meetings for the National Committee and the Regional Committee, and public attendance at certain of these meetings. The Department believes that these regulations limit the Department's discretion, impose bureaucratic processes, and prevent the Department from coordinating internally in more efficient, effective ways.

² Department of Labor Executive Level Conforming Amendments of 1986, Public Law 99-619, 2(a)(1), 100 Stat. 3491 (Nov. 6, 1986).

Moreover, the regulations, promulgated 45 years ago, in 1980, are outdated and no longer reflect the current organization of the Department or the legal landscape pertaining to migrant farmworkers. For instance, under the regulations, the National and Regional Committees, as well as the Regional Committees' annual public meetings, are required to be run, in part, by officers of an agency within the Department that no longer exists, ESA, which was dissolved in 2009. Also, the regulations require that written coordinated enforcement plans detail the Department's enforcement of a statute that is no longer in effect: FLCRA, which Congress repealed in 1983. Additionally, the regulations do not reflect more recent developments in federal law related to migrant farmworkers that the Department administers and enforces, such as the Migrant and Seasonal Agricultural Worker Protection Act (MSPA), and the Immigration and Nationality Act's H-2A nonimmigrant visa program for temporary or seasonal agricultural workers. See, e.g., 29 U.S.C. 1812, 1852; 8 U.S.C. 1188. Because part 42 reflects an outdated legal landscape and depends on a bygone departmental structure, it has become increasingly difficult for the Department to implement the requirements of the regulation as drafted, and thus the Department is proposing to rescind the regulation in its entirety.

Furthermore, the Department notes that the need for coordinated migrant farmworker labor law enforcement for the protective statutes has not changed and continues to be a priority for the Department. To that end, the Department currently takes numerous steps to ensure that the coordinated enforcement efforts of OSHA, ETA, and WHD address the employment-related problems faced by migrant farmworkers, are coordinated to maximize their effectiveness and minimize unnecessary duplication, and assure that employers of migrant farmworkers are complying with the laws that the Department enforces. For example, OSHA has regularly hosted an agriculture task force that has engaged with agricultural concerns and issues in coordination with representatives from WHD and ETA. The task force was designed to identify, review, update, and develop OSHA's agricultural guidance products, including regulations and web pages. The task force contributed to several new agricultural guidance products over the years, including a 2017 update to OSHA's Agricultural Operations Safety and Health Topics web page ³ with information ranging from links to heat illness to youth employment in agriculture. Likewise, other Departmental initiatives reflect the Department's ongoing commitment to cross-agency coordination at the national and regional levels. For example, ETA Regional Monitor Advocates often host meetings for the relevant State Workforce Agencies, which representatives from WHD attend.

³ https://www.osha.gov/agricultural-operations.

Additionally, the Department maintains contact and exchange information with farm labor groups and the public on issues relating to the employment of migrant farmworkers on an ongoing basis. As part of the Department's regular stakeholder engagement, OSHA, WHD and ETA all maintain contacts and meet with farmworker groups, as part of public outreach, roundtables, and conferences, at both the national and the regional level. The ETA National Monitor Advocate regularly meets with farmworker groups and, each year during harvest season, travels to states with high numbers of migrant farmworkers to meet with State Workforce Agencies and organizations that represent farmworkers.

The proposed rescission of the coordinated farm labor law enforcement regulations would allow the Department to continue its coordinated enforcement efforts in a manner that maximizes their effectiveness and efficiency. The Department requests comments from the public concerning this proposed rescission of regulations for coordinated migrant farmworker labor law enforcement activities.

Procedural and Other Matters

A. Review Under Executive Orders 12866

E.O. 12866, “Regulatory Planning and Review,” 58 FR 51735 (Oct. 4, 1993), requires agencies, to the extent permitted by law, to (1) propose or adopt a regulation only upon a reasoned determination that its benefits justify its costs (recognizing that some benefits and costs are difficult to quantify); (2) tailor regulations to impose the least burden on society, consistent with obtaining regulatory objectives, taking into account, among other things, and to the extent practicable, the costs of cumulative regulations; (3) select, in choosing among alternative regulatory approaches, those approaches that maximize net benefits; (4) to the extent feasible, specify performance objectives, rather than specifying the behavior or manner of compliance that regulated entities must adopt; and (5) identify and assess available alternatives to direct regulation, including providing economic incentives to encourage the desired behavior, such as user fees or marketable permits, or providing information upon which choices can be made by the public.

Section 6(a) of E.O. 12866 also requires agencies to submit “significant regulatory actions” to the Office of Information and Regulatory Affairs (OIRA) for review. OIRA has determined that this proposed rule does not constitute a “significant regulatory action” under section 3(f) of E.O. 12866. Accordingly, this proposed rule was not submitted to OIRA for review under E.O. 12866.

B. Review Under the Regulatory Flexibility Act

The Regulatory Flexibility Act (5 U.S.C. 601 et seq.) requires preparation of an initial regulatory flexibility analysis (IRFA) and a final regulatory flexibility analysis (FRFA) for any rule that by law must be proposed for public comment, unless the agency certifies that the rule, if promulgated, will not have a significant economic impact on a substantial number of small entities.

DOL reviewed this proposed rescission under the provisions of the Regulatory Flexibility Act. The regulation the Department is proposing to rescind pertains to procedures within the Department for the coordination of enforcement activities by WHD, OSHA, and ETA relating to migrant farmworkers, so there is no impact on small entities. Therefore, DOL initially concludes that the impacts of the rescission would not have a “significant economic impact on a substantial number of small entities,” and that the preparation of an IRFA is not warranted. DOL will transmit this certification and supporting statement of factual basis to the Chief Counsel for Advocacy of the Small Business Administration for review under 5 U.S.C. 605(b).

C. Review Under the Paperwork Reduction Act

This proposed rescission imposes no new information collection or record-keeping requirements. Accordingly, Office of Management and Budget (OMB) clearance is not required under the Paperwork Reduction Act. (44 U.S.C. 3501 et seq.).

D. Review Under Executive Order 13132

E.O. 13132, “Federalism,” 64 FR 43255 (August 10, 1999), imposes certain requirements on Federal agencies formulating and implementing policies or regulations that preempt State law or that have federalism implications. E.O. 13132 requires agencies to examine the constitutional and statutory authority supporting any action that would limit the policymaking discretion of the States and to carefully assess the necessity for such actions. E.O. 13132 also requires agencies to have an accountable process to ensure meaningful and timely input by State and local officials in the development of regulatory policies that have Federalism implications.

DOL has examined this proposed rescission and has determined that it would not have a substantial direct effect on the States, on the relationship between the Federal government and the States, or on the distribution of power and responsibilities among the various levels of government.

E. Review Under the Unfunded Mandates Reform Act

Title II of the Unfunded Mandates Reform Act of 1995 (UMRA) requires each Federal agency to assess the effects of Federal regulatory actions on State, local, and Tribal governments and the private sector. Public Law 104-4, sec. 201 (codified at 2 U.S.C. 1531). For a regulatory action likely to result in a rule that may cause the expenditure by State, local, and Tribal governments, in the aggregate, or by the private sector of $100 million or more in any one year (adjusted annually for inflation), section 202 of UMRA requires a Federal agency to publish a written statement that estimates the resulting costs, benefits, and other effects on the national economy. 2 U.S.C. 1532(a), (b)). The UMRA also requires a Federal agency to develop an effective process to permit timely input by elected officers of State, local, and Tribal governments on a “significant intergovernmental mandate,” and requires an agency plan for giving notice and opportunity for timely input to potentially affected small governments before establishing any requirements that might significantly or uniquely affect them.

DOL examined this proposed rescission according to UMRA and its statement of policy and determined that the proposed rescission does not contain a Federal intergovernmental mandate, nor is it expected to require expenditures of $100 million or more in any one year by State, local, and Tribal governments, in the aggregate, or by the private sector. As a result, the analytical requirements of UMRA do not apply.

F. Review Under Executive Order 12988

With respect to the review of existing regulations and the promulgation of new regulations, section 3(a) of E.O. 12988, “Civil Justice Reform,” imposes on Federal agencies the general duty to adhere to the following requirements: (1) eliminate drafting errors and ambiguity, (2) write regulations to minimize litigation, (3) provide a clear legal standard for affected conduct rather than a general standard, and (4) promote simplification and burden reduction. 61 FR 4729 (Feb. 7, 1996). Regarding the review required by section 3(a), section 3(b) of E.O. 12988 specifically requires that Executive agencies make every reasonable effort to ensure that the regulation: (1) clearly specifies the preemptive effect, if any, (2) clearly specifies any effect on existing Federal law or regulation, (3) provides a clear legal standard for affected conduct while promoting simplification and burden reduction, (4) specifies the retroactive effect, if any, (5) adequately defines key terms, and (6) addresses other important issues affecting clarity and general draftsmanship under any guidelines issued by the Attorney General.

Section 3(c) of E.O. 12988 requires Executive agencies to review regulations in light of applicable standards in section 3(a) and section 3(b) to determine whether they are met or it is unreasonable to meet one or more of them. DOL has completed the required review and determined that, to the extent permitted by law, this proposed rescission meets the relevant standards of E.O. 12988.

G. Review Under the Treasury and General Government Appropriations Act, 1999

Section 654 of the Treasury and General Government Appropriations Act, 1999 (Pub. L. 105-277) requires Federal agencies to issue a Family Policymaking Assessment for any rule that may affect family well-being. This proposed rescission would not have any impact on the autonomy or integrity of the family as an institution. Accordingly, DOL has concluded that it is not necessary to prepare a Family Policymaking Assessment.

H. Review Under Executive Order 12630

Pursuant to E.O. 12630, “Governmental Actions and Interference with Constitutionally Protected Property Rights,” 53 FR 8859 (Mar. 18, 1988), DOL has determined that this proposed rescission would not result in any takings that might require compensation under the Fifth Amendment to the U.S. Constitution.

I. Review Under the Treasury and General Government Appropriations Act, 2001

Section 515 of the Treasury and General Government Appropriations Act, 2001 (44 U.S.C. 3516, note) provides for Federal agencies to review most disseminations of information to the public under information quality guidelines established by each agency pursuant to general guidelines issued by OMB. OMB's guidelines were published at 67 FR 8452 (Feb. 22, 2002). DOL has reviewed this proposed rescission under the OMB guidelines and has concluded that it is consistent with applicable policies in those guidelines.

J. Congressional Notification

As required by 5 U.S.C. 801, if finalized, DOL will report to Congress on the promulgation of this rule before its effective date. The report will state that it has been determined that the rule is not a “major rule” as defined by 5 U.S.C. 804(2).

K. Review Under Additional Executive Orders and Presidential Memoranda

DOL has examined this proposed rule and has determined that it is consistent with the policies and directives outlined in E.O. 14192, “Unleashing Prosperity Through Deregulation.” This rescission is expected to be an E.O. 14192 deregulatory action.

DOL has considered its obligations under the Executive Orders on Consultation and Coordination with Indian Tribal Governments (E.O. 13175, 65 FR 67249 (Nov. 6, 2000)) and Protection of Children From Environmental Health Risks and Safety Risks (E.O. 13045, 62 FR 19885 (Apr. 23, 1997)). Given that this proposed rule pertains to procedures within the Department that will have no economic impacts, and does not constitute a policy with Tribal implications, DOL has determined that no further agency action or analysis is required to comply with those executive orders.

List of Subjects in 29 CFR Part 42

Law enforcement, Migrant labor, Occupational Safety and Health Administration.

PART 42—[REMOVED AND RESERVED]

For the reasons stated in the preamble, and under the authority of 5 U.S.C. 301, the Department proposes to remove and reserve 29 CFR part 42.

Susan Frazier,
Acting Assistant Secretary for Employment and Training, Labor.
Amanda Laihow,
Acting Assistant Secretary for Occupational Safety and Health, Labor.
Donald Harrison,
Acting Administrator for Wage and Hour Division, Labor.

[FR Doc. 2025-11848 Filed 6-30-25; 8:45 am]

BILLING CODE 4510-FN-P; 4510-27-P; 4510-04-P